ENVIRONMENTAL PROTECTION AGENCY

[FRL-12134-01-OA]

Announcement of Meeting of the National Environmental Education Advisory Council

AGENCY: Environmental Protection Agency (EPA).

ACTION: Notice of meeting.

SUMMARY: Under the Federal Advisory Committee Act, the Environmental Protection Agency (EPA) gives notice of a teleconference meeting of the National Environmental Education Advisory Council (NEEAC). The NEEAC was created by Congress to advise, consult with, and make recommendations to the Administrator of the Environmental Protection Agency (EPA) on matters related to activities, functions, and policies of EPA under the National Environmental Education Act (the Act). The purpose of this meeting is to discuss specific topics of relevance by the council to provide advice and insights to the Agency on environmental education.

DATES: The National Environmental Education Advisory Council will hold a public meeting on Thursday, August 22, 2024, from 10 a.m. until 3 p.m. Eastern Standard Time. The meeting will be virtual. A link for participation will be provided upon request.

FOR FURTHER INFORMATION CONTACT: Javier Araujo, Designated Federal Officer, araujo.javier@epa.gov, 202-441-8981, U.S. EPA, Office of Environmental Education, William Jefferson Clinton North, Room 1426, 1200 Pennsylvania Avenue NW, Washington, DC 20460.

SUPPLEMENTARY INFORMATION: Members of the public wishing to gain access to the teleconference, make brief oral comments, or provide a written statement to the NEEAC must contact Javier Araujo, Designated Federal Officer, at araujo.javier@epa.gov or 202-441-8981 by 10 business days prior to each regularly scheduled meeting. Oral comments at this meeting will be limited to three minutes and will be accommodated as time permits.

Meeting Access: For information on access or services for individuals with disabilities or to request accommodations, please contact Javier Araujo at araujo.javier@epa.gov or 202-441-8981, preferably at least 10 days prior to the meeting, to give EPA as much time as possible to process your request.

Jessica Loya,
Deputy Associate Administrator, Office of Public Engagement and Environmental Education.

[FR Doc. 2024-16688 Filed 7-29-24; 8:45 am]

BILLING CODE 6560-50-P